DEPARTMENT OF ENERGY

Federal Energy Regulatory Commission

Notice of Commission Staff Attendance

The Federal Energy Regulatory Commission hereby gives notice that members of the Commission's staff may attend the following meeting related to the transmission planning activities of the Southwest Power Pool, Inc. (SPP): SPP Strategic Planning Committee Meeting, October 13, 2011,8 a.m.-3 p.m., Local Time.

The above-referenced meeting will be held at: Doubletree Dallas, 4099 Valley View Lane, Dallas, TX 75244.

The above-referenced meeting is open to stakeholders.

Further information may be found at http://www.spp.org.

The discussions at the meetings described above may address matters at issue in the following proceedings:

Docket No. ER10-1069-001, Southwest Power Pool, Inc.

Docket No. EL11-34-001, Midwest Independent Transmission System Operator, Inc.

Docket No. ER09-548-001, ITC Great Plains, LLC.

Docket No. ER09-35-001, Tallgrass Transmission, LLC.

Docket No. ER09-36-001, Prairie Wind Transmission, LLC.

Docket No. ER09-36-002, Prairie Wind Transmission, LLC.

For more information, contact Partha Malvadkar, Office of Energy Markets Regulation, Federal Energy Regulatory Commission at (202) 502-6332 or partha.malvadkar@ferc.gov.

Dated: October 7, 2011.
Nathaniel J. Davis, Sr.,
Deputy Secretary.

[FR Doc. 2011-26696 Filed 10-14-11; 8:45 am]

BILLING CODE 6717-01-P